DEPARTMENT OF ENERGY

Federal Energy Regulatory Commission

[Project No. 15281-000]

Solia 1 Hydroelectric, LLC; Notice of Preliminary Permit Application Accepted for Filing and Soliciting Comments, Motions To Intervene, and Competing Applications

On June 22, 2022, Solia 1 Hydroelectric, LLC, filed an application for a preliminary permit, pursuant to section 4(f) of the Federal Power Act (FPA), proposing to study the feasibility of the St. Lawrence County Pumped Storage Project to be located about 1 mile southwest of the City of Pyrites in St. Lawrence County, New York. The sole purpose of a preliminary permit, if issued, is to grant the permit holder priority to file a license application during the permit term. A preliminary permit does not authorize the permit holder to perform any land-disturbing activities or otherwise enter upon lands or waters owned by others without the owners' express permission.

The proposed project would consist of the following: (1) a new upper reservoir with a surface area of 120 acres and a storage capacity of 4,500 acre-feet at a maximum pool elevation of 605 feet mean sea level created through construction of a new rock-fill dam; (2) a new lower reservoir consisting of eight concentric circular tunnels with a storage capacity of 4,500 acre-feet at a depth of 2,500 feet below the ground surface; (3) a new 100-foot outside diameter, 18-foot inside diameter “morning glory” shaped vertical intake located in the upper reservoir; (4) a new 2,800-foot-long, 16-foot-diameter penstock connecting the upper reservoir and the underground powerhouse; (5) a new 200-foot-long, 70-foot-wide, 130-foot-high underground powerhouse containing two 333-megawatt (MW) reversible pump-turbines with a total installed capacity of 666 MW; (6) a new 200- to 500-foot-long, 230-kilovolt (kV) or 765-kV transmission line connecting the underground transformer gallery and the new substation to the existing grid; (7) a new 200-foot-long, 200-foot-wide substation; (8) a new pumping facility for providing initial filling water and makeup water obtained from the Grass River located within the eastern part of the project boundary; and (9) appurtenant facilities. The proposed project would have an annual generation of 1,450 gigawatt-hours.

Applicant Contact: Douglas Spaulding, Nelson Energy, 8441 Wayzata Blvd., Suite 101, Golden Valley, MN 55426; phone: (952) 544-8133.

FERC Contact: Woohee Choi; email: woohee.choi@ferc.gov; phone: (202) 502-6336.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at https://ferconline.ferc.gov/eFiling.aspx. Commenters can submit brief comments up to 6,000 characters, without prior registration, using the eComment system at https://ferconline.ferc.gov/QuickComment.aspx. You must include your name and contact information at the end of your comments. For assistance, please contact FERC Online Support. In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-15281-000.

More information about this project, including a copy of the application, can be viewed or printed on the “eLibrary” link of the Commission's website at http://www.ferc.gov/docs-filing/elibrary.asp. Enter the docket number (P-15281) in the docket number field to access the document. For assistance, contact FERC Online Support.

Dated: August 5, 2022.
Kimberly D. Bose,
Secretary.

[FR Doc. 2022-17255 Filed 8-10-22; 8:45 am]

BILLING CODE 6717-01-P